SECURITIES AND EXCHANGE COMMISSION

Sunshine Act Meeting; Cancellation

FEDERAL REGISTER CITATION OF PREVIOUS ANNOUNCEMENT: 87 FR 12748, March 7, 2022.

PREVIOUSLY ANNOUNCED TIME AND DATE OF THE MEETING: Wednesday, March 9, 2022 at 12:00 p.m.

CHANGES IN THE MEETING: The Closed Meeting scheduled for Wednesday, March 9, 2022 at 12:00 p.m., has been cancelled.

CONTACT PERSON FOR MORE INFORMATION: For further information; please contact Vanessa A. Countryman from the Office of the Secretary at (202) 551-5400.

(Authority: 5 U.S.C. 552b)

Dated: March 7, 2022.
Vanessa A. Countryman,
Secretary.

[FR Doc. 2022-05097 Filed 3-7-22; 4:15 pm]

BILLING CODE 8011-01-P